DEPARTMENT OF ENERGY

Federal Energy Regulatory Commission

Combined Notice of Filings #1

Take notice that the Commission received the following electric corporate filings:

Docket Numbers: EC16-114-000.

Applicants: Parrey, LLC.

Description: Application of Parrey, LLC for Authorization Under Section 203 of the Federal Power Act and Request for Expedited Action, Confidential Treatment, and Waivers.

Filed Date: 5/3/16.

Accession Number: 20160503-5201.

Comments Due: 5 p.m. ET 5/24/16.

Take notice that the Commission received the following electric rate filings:

Docket Numbers: ER13-432-004.

Applicants: Entergy Services, Inc.

Description: Compliance Filing of Entergy Services, Inc. Pursuant to Opinion No. 547.

Filed Date: 5/3/16.

Accession Number: 20160503-5207.

Comments Due: 5 p.m. ET 5/24/16.

Docket Numbers: ER15-1218-003; ER15-2224-002; ER16-1154-002.

Applicants: Solar Star California XIII, LLC, Solar Star Colorado III, LLC, Parrey, LLC.

Description: Notice of Non-Material of Change in Status of Solar Star California XIII, LLC, et al.

Filed Date: 5/2/16.

Accession Number: 20160502-5498.

Comments Due: 5 p.m. ET 5/23/16.

Docket Numbers: ER16-1621-000.

Applicants: Public Service Company of Colorado.

Description: Compliance filing: SPS Line Loss Percentages Compliance filing to be effective 5/1/2016.

Filed Date: 5/5/16.

Accession Number: 20160505-5101.

Comments Due: 5 p.m. ET 5/26/16.

Docket Numbers: ER16-1622-000.

Applicants: Southern California Edison Company.

Description: Section 205(d) Rate Filing: 2016 Revised Added Facilities Rate under WDAT—Filing No. 11 to be effective 1/1/2016.

Filed Date: 5/5/16.

Accession Number: 20160505-5104.

Comments Due: 5 p.m. ET 5/26/16.

Docket Numbers: ER16-1623-000.

Applicants: New York State Electric & Gas Corporation.

Description: Notice of Termination of Interconnection Agreement of New York State Electric & Gas Corporation.

Filed Date: 5/4/16.

Accession Number: 20160504-5203.

Comments Due: 5 p.m. ET 5/25/16.

Docket Numbers: ER16-1624-000.

Applicants: PacifiCorp.

Description: Section 205(d) Rate Filing: Tri-State E&P Agreement ? Monolith Tap to be effective 4/22/2016.

Filed Date: 5/5/16.

Accession Number: 20160505-5130.

Comments Due: 5 p.m. ET 5/26/16.

Take notice that the Commission received the following PURPA 210(m)(3) filings:

Docket Numbers: QM16-1-000.

Applicants: Nebraska Public Power District.

Description: Supplemental Response to April 19, 2016 Deficiency Letter on behalf of the Nebraska Public Power District.

Filed Date: 5/3/16.

Accession Number: 20160503-5199.

Comments Due: 5 p.m. ET 5/31/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2016.
Nathaniel J. Davis, Sr.,
Deputy Secretary.

[FR Doc. 2016-11110 Filed 5-10-16; 8:45 am]

BILLING CODE 6717-01-P